DEPARTMENT OF TRANSPORTATION

Federal Aviation Administration

14 CFR Part 39

[Docket No. FAA-2017-0245; Directorate Identifier 2017-NM-023-AD; Amendment 39-18841; AD 2017-07-03]

RIN 2120-AA64

Airworthiness Directives; Airbus Airplanes

AGENCY: Federal Aviation Administration (FAA), DOT.

ACTION: Final rule; correction.

SUMMARY: The FAA is correcting an airworthiness directive (AD) that published in the Federal Register. That AD applies to all Airbus Model A330-243, -243F, -341, -342, and -343 airplanes. As published, the AD number specified in the preamble and regulatory text is incorrect. This document corrects that error. In all other respects, the original document remains the same.

DATES: This correction is effective April 17, 2017.

The Director of the Federal Register approved the incorporation by reference of a certain publication listed in this AD as of April 17, 2017 (82 FR 15985, March 31, 2017).

ADDRESSES: For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2017-0245.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION: As published, Airworthiness Directive 2017-07-05, Amendment 39-18841 (82 FR 15985, March 31, 2017), requires an inspection to determine if affected hydraulic pressure tube assemblies are installed, and replacement with serviceable hydraulic pressure tube assemblies if necessary, for all Airbus Model A330-243, -243F, -341, -342, and -343 airplanes. That AD also requires repetitive replacements of serviceable hydraulic pressure tube assemblies.

Need for the Correction

As published, the AD number specified in the preamble and regulatory text is incorrect. The incorrectly specified number was AD 2017-07-05, which is assigned to another AD; the correct number is AD 2017-07-03.

Related Service Information Under 1 CFR Part 51

Airbus has issued Alert Operators Transmission (AOT) A71L012-16, Revision 01, dated February 24, 2017. The service information describes procedures for replacing hydraulic pressure tube assembly, part number (P/N) AE711121-18, and hydraulic pressure tube assembly, P/N AE711121-18 Rev A. This service information is reasonably available because the interested parties have access to it through their normal course of business or by the means identified in the ADDRESSES section.

Correction of Publication

This document corrects an error and correctly adds the AD as an amendment to 14 CFR 39.13. Although no other part of the preamble or regulatory information has been corrected, we are publishing the entire rule in the Federal Register.

The effective date of this AD remains April 17, 2017.

Since this action only corrects an AD number, it has no adverse economic impact and imposes no additional burden on any person. Therefore, we have determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2017-07-03 Airbus: Amendment 39-18841; Docket No. FAA-2017-0245; Directorate Identifier 2017-NM-023-AD.

(a) Effective Date

This AD is effective April 17, 2017.

(b) Affected ADs

None.

(c) Applicability

This AD applies to Airbus Model A330-243, -243F, -341, -342, and -343 airplanes, certificated in any category, all manufacturer serial numbers.

(d) Subject

Air Transport Association (ATA) of America Code 71, Powerplant.

(e) Reason

This AD was prompted by a determination that cracks can develop on the ripple damper of the hydraulic pressure tube assembly, which could lead to hydraulic leakage and consequent loss of the green hydraulic system. This AD was also prompted by reports of failure of the ripple damper of the hydraulic pressure tube assembly. We are issuing this AD to prevent cracking and failure of the ripple damper of the hydraulic pressure tube assembly, which could, in combination with other system failures, result in reduced control of the airplane.

(f) Compliance

Comply with this AD within the compliance times specified, unless already done.

(g) Definition of Affected Part

For the purpose of this AD, a hydraulic pressure tube assembly, part number (P/N) AE711121-18, as introduced by Airbus mod 205242, is hereafter referred to as an “affected part” in this AD.

(h) Definition of Serviceable Part

For the purpose of this AD, a “serviceable part” is a hydraulic pressure tube assembly (which has a double-welded ripple damper installed), P/N AE711121-18 Rev A, that has accumulated fewer than 800 total flight cycles since first installation on an airplane. The hydraulic pressure tube assembly, P/N AE711121-18 Rev A, is introduced by Airbus mod 206979 on the production line.

(i) Identification of Affected Parts

Within 15 days after April 17, 2017 (the effective date of this AD), inspect to determine the part number of the hydraulic pressure tube assembly that is installed on each engine. A review of airplane maintenance records is acceptable in lieu of this inspection if the part number of the hydraulic pressure tube assembly can be conclusively determined from that review.

(j) Replacement of Affected Parts

Within the compliance time specified in table 1 to paragraph (j) of this AD, as applicable, or within 4 months after April 17, 2017 (the effective date of this AD), whichever occurs first, replace each affected part (see paragraph (g) of this AD) with a serviceable part (see paragraph (h) of this AD), in accordance with the instructions of Airbus Alert Operators Transmission (AOT) A71L012-16, Revision 01, dated February 24, 2017.

Table 1 to Paragraph (j) of This AD—Replacement Compliance Times
Flight cycles accumulated * | Compliance time
Fewer than 775 total flight cycles | Before exceeding 800 total flight cycles on the affected hydraulic pressure tube assembly since first installation on an airplane.
775 total flight cycles or more | Within 25 flight cycles after April 17, 2017 (the effective date of this AD).
An unknown number of flight cycles accumulated | Within 25 flight cycles after April 17, 2017 (the effective date of this AD).
* Unless specified otherwise, the flight cycles in the “flight cycles accumulated” column of table 1 to paragraph (j) of this AD are those accumulated by an affected hydraulic pressure tube assembly, on April 17, 2017 (the effective date of this AD), since first installation on an airplane.

(k) Repetitive Replacement of Serviceable Parts—Life Limit

Before a serviceable part (see paragraph (h) of this AD) exceeds 800 total flight cycles since first installation on an airplane, replace it with a serviceable part, in accordance with the instructions of Airbus AOT A71L012-16, Revision 01, dated February 24, 2017.

(l) Engine Installation Limitation

As of April 17, 2017 (the effective date of this AD), except as required by paragraph (m) of this AD, it is allowed to install on any airplane a replacement engine having an affected part (see paragraph (g) of this AD) installed, provided that, before that affected part exceeds 800 total flight cycles since first installation on an airplane, or within 4 months after April 17, 2017 (the effective date of this AD), whichever occurs first, the part is replaced with a serviceable part (see paragraph (h) of this AD), in accordance with the instructions of Airbus AOT A71L012-16, Revision 01, dated February 24, 2017.

(m) Parts and Engine Installation Prohibition

As of 4 months after April 17, 2017 (the effective date of this AD): Do not install on any airplane an affected part (see paragraph (g) of this AD), or an engine having an affected part installed.

(n) Credit for Previous Actions

This paragraph provides credit for actions required by paragraph (j) of this AD, if those actions were performed before April 17, 2017 (the effective date of this AD) using Airbus AOT A71L012-16, dated December 22, 2016.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(p) Related Information

(1) Refer to Mandatory Continuing Airworthiness Information (MCAI) EASA Airworthiness Directive 2017-0041, dated February 24, 2017; corrected February 28, 2017, for related information. This MCAI may be found in the AD docket on the Internet at http://www.regulations.gov by searching for and locating Docket No. FAA-2017-0245.

(2) For more information about this AD, contact Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov.

(3) Service information identified in this AD that is not incorporated by reference is available at the addresses specified in paragraphs (q)(4) and (q)(5) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 17, 2017 (82 FR 15985, March 31, 2017).

(i) Airbus Alert Operators Transmission (AOT) A71L012-16, Revision 01, dated February 24, 2017.

(ii) Reserved.

(4) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on April 5, 2017.
Michael Kaszycki,
Acting Manager, Transport Airplane Directorate, Aircraft Certification Service.

[FR Doc. 2017-07442 Filed 4-12-17; 8:45 am]

BILLING CODE 4910-13-P